DEPARTMENT OF HOMELAND SECURITY

Coast Guard

33 CFR Part 117

[CGD01-06-104]

Drawbridge Operation Regulations; Mill Neck Creek, Oyster Bay, NY

AGENCY: Coast Guard, DHS.

ACTION: Notice of temporary deviation from regulations.

SUMMARY: The Commander, First Coast Guard District, has issued a temporary deviation from the regulation governing the operation of the Bayville Bridge, across Mill Neck Creek, mile 0.1, at Oyster Bay, New York. This deviation, allows the bridge owner to open only one of the two moveable bascule spans for the passage of vessel traffic from October 28, 2006 through November 20, 2006. This deviation is necessary to facilitate scheduled bridge maintenance.

DATES: This deviation is effective from October 28, 2006 through November 20, 2006.

ADDRESSES: Materials referred to in this document are available for inspection or copying at the First Coast Guard District, Bridge Branch Office, One South Street, New York, New York, 10004, between 7 a.m. and 3 p.m., Monday through Friday, except Federal holidays. The telephone number is (212) 668-7165. The First Coast Guard District Bridge Branch Office maintains the public docket for this temporary deviation.

FOR FURTHER INFORMATION CONTACT: Judy Leung-Yee, Project Officer, First Coast Guard District, at (212) 668-7165.

SUPPLEMENTARY INFORMATION: The Bayville Bridge, across Mill Neck Creek, mile 0.1, at Oyster Bay, New York, has a vertical clearance in the closed position of 9 feet at mean high water and 16 feet at mean low water. The existing regulation requires the bridge to open on demand.

The owner of the bridge, County of Nassau, Department of Public Works, requested a temporary deviation to facilitate scheduled structural bridge repairs, rehabilitation of the two bascule spans.

In order to perform the structural repairs, the bascule span undergoing work must remain in the closed position.

Therefore, under this temporary deviation the Bayville Bridge across Mill Neck Creek, mile 0.1, at Oyster Bay, New York, shall open only one of the two movable spans for the passage of vessel traffic from October 28, 2006 through November 20, 2006.

In accordance with 33 CFR 117.35(c), this work will be performed with all due speed in order to return the bridge to normal operation as soon as possible.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

This deviation from the operating regulations is authorized under 33 CFR 117.35(b).

Dated: October 3, 2006.
Gary Kassof,
Bridge Program Manager, First Coast Guard District.

[FR Doc. E6-17385 Filed 10-17-06; 8:45 am]

BILLING CODE 4910-15-P